DEPARTMENT OF HEALTH AND HUMAN SERVICES

42 CFR Part 84

[Docket Numbers NIOSH-221, NIOSH-082A, NIOSH-147]

Public Meeting To Discuss NIOSH's Respirator Standards Development Efforts

AGENCY: National Institute for Occupational Safety and Health (NIOSH), Centers for Disease Control and Prevention (CDC), Department of Health and Human Services (HHS).

ACTION: Notice of a public meeting.

SUMMARY: The National Institute for Occupational Safety and Health (NIOSH), National Personal Protective Technology Laboratory (NPPTL), will conduct a public meeting to discuss current respirator standards development projects, including the NIOSH Regulatory Agenda for updating 42 CFR part 84, CBRN Combination Unit Respirator Performance Requirements, and the NIOSH policy on SCBA “Buddy-Breathing”. There will be an opportunity for discussion following each topic's presentations.

DATES: The public meeting will be held 8:30 a.m. to 5 p.m., December 9, 2010. On-site registration will be held beginning at 7:45 a.m.

ADDRESSES: The public meeting will be held at Hyatt Regency Pittsburgh International Airport, 1111 Airport Boulevard, Pittsburgh, PA 15231, telephone 800-233-1234.

FOR FURTHER INFORMATION CONTACT: Jonathan Szalajda, NPPTL, Policy and Standards Development Branch Chief, P.O. Box 18070, 626 Cochrans Mill Road, Pittsburgh, PA 15236, telephone 412-386-5200, fax 412-386-4089, E-mail npptlevents@cdc.gov.

SUPPLEMENTARY INFORMATION: Status: The meeting will be open to the public, limited only by the space available. The meeting room accommodates approximately 125 people.

Instructions: Requests to make presentations at the public meeting should be mailed to the NIOSH Docket Officer, Robert A. Taft Laboratories, MS-C34, 4676 Columbia Parkway, Cincinnati, Ohio 45226. Requests may also be submitted by telephone 513-533-8611, fax 513-533-8285, or e-mailed to niocindocket@cdc.gov. All requests to present should contain the name, address, and telephone number, relevant business affiliations of the presenter, topic of the presentation, and the approximate time requested for the presentation. Oral presentations should be limited to 15 minutes.

After reviewing the requests for presentations, NIOSH will notify the presenters that their presentations are scheduled. If a participant is not present when his/her presentation is scheduled to begin, the remaining participants will be heard in order. At the conclusion of the meeting, an attempt will be made to allow presentations by scheduled participants who missed their assigned times. Attendees who wish to speak but did not submit a request for the opportunity to make a presentation may be given this opportunity at the conclusion of the meeting, at the discretion of the presiding officer.

This meeting will also be using Audio/Live Meeting Conferencing, remote access capabilities where interested parties may listen in and review the presentations over the internet simultaneously. Parties remotely accessing the meeting will have the opportunity to ask questions during the open comment period. To register to use this capability, please contact the NPPTL, Policy and Standards Development Branch, P.O. Box 18070, 626 Cochrans Mill Road, Pittsburgh, PA 15236, telephone 412-386-5200, fax 412-386-4089. This option will be available to participants on a first come, first served basis and is limited to the first 50 participants.

Background: NIOSH, National Personal Protective Technology Laboratory (NPPTL), will present information to attendees concerning the development of the concepts being considered for performance criteria of various classes of respirators. Participants will be given an opportunity to ask questions and to present individual comments that they may wish to have considered.

Reference: Information regarding documents that will be discussed at the meeting may be obtained from the NIOSH Web site using this link: http://www.cdc.gov/niosh/review/public/ using the docket numbers listed in this notice.

Authority: 29 U.S.C. 651-675, 677; 30 U.S.C. 3, 5, 7, 811, 842(h), 844.

Dated: October 12, 2010.
Tanja Popovic,
Deputy Associate Director for Science, Centers for Disease Control and Prevention.

[FR Doc. 2010-26129 Filed 10-21-10; 8:45 am]

BILLING CODE 4163-19-P